DEPARTMENT OF THE INTERIOR

National Park Service

[NPS-WASO-NAGPRA-22417; PPWOCRADN0-PCU00RP14.R50000]

Notice of Intent to Repatriate Cultural Items: U.S. Army Corps of Engineers, Huntington District, Huntington, WV

AGENCY: National Park Service, Interior.

ACTION: Notice.

SUMMARY: The U.S. Army Corps of Engineers, Huntington District (Huntington District), in consultation with the appropriate Indian tribes or Native Hawaiian organizations, has determined that the cultural items listed in this notice meet the definition of unassociated funerary objects. Lineal descendants or representatives of any Indian tribe or Native Hawaiian organization not identified in this notice that wish to claim these cultural items should submit a written request to the Huntington District. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Huntington District at the address in this notice by January 3, 2017.

ADDRESSES: Mr. Rodney Parker, District Archaeologist, U.S. Army Corps of Engineers, Huntington District, 502 Eighth Street, Huntington, WV 25701, telephone (304) 399-5729, email rodney.d.parker@usace.army.mil.

SUPPLEMENTARY INFORMATION: Notice is here given in accordance with the Native American Graves Protection and Repatriation Act (NAGPRA), 25 U.S.C. 3005, of the intent to repatriate cultural items under the control of the U.S. Army Corps of Engineers, Huntington District, Huntington, WV, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item(s)

In 1963, ten cultural items were removed from 15PI11 (the Slone Site), Fishtrap Lake, Pike County, KY. The items were excavated during legally authorized excavations performed by Lee Hanson in 1963, a graduate student at the University of Kentucky. In 1964, Robert Dunnell, and undergraduate at the University, completed the excavation of the Fort Ancient component of the site. Burial 7 at the site was reported to have included the fragmentary skeletal remains of an infant; unmodified faunal remains and pottery sherds were collected with the burial fill. No human remains associated with Burial 7 have been located. The skeletal remains in Burial 12 had completely decayed, but the construction pattern of the grave was distinct enough to permit its identification as a grave without the actual presence of human remains. An engraved stone was collected from the burial pit of Burial 12. The items from these two burials have been housed at the University of Kentucky, Lexington, since their excavation. The ten unassociated funerary objects are one carved soapstone fragment, four ceramic sherds, and five fragments unmodified faunal remains.

The funerary objects were determined to be affiliated with the Shawnee based on the physical archeological evidence which indicated a Fort Ancient period occupation at this site from A.D. 1000 to 1700. The Shawnee are generally considered the `southerners' or the southernmost of the Algonquian-speaking tribes, and oral tradition places their homeland along the central Ohio River Valley. The Shawnee are often associated with the Fort Ancient peoples who occupied the Ohio River Valley and have a long association with this territory in which they were first encountered by the Europeans by the mid seventeenth century including areas of southern Ohio, northern Kentucky, and western West Virginia. The location of Fort Ancient archaeological sites within the Huntington District indicates that a strong historical and ethnohistorical link showing the region was occupied by the Shawnees in the early historic period. Based on the geographic, anthropological, linguistic, anthropological, and historical evidence, and information gained during tribal consultation, Huntington District has determined that the unassociated funerary objects from site 15PI11 are culturally affiliated with the Shawnee. The three federally recognized tribes with standing under NAGPRA are the Absentee-Shawnee Tribe of Indians of Oklahoma, the Eastern Shawnee Tribe of Oklahoma, and the Shawnee Tribe.

Determinations Made by the Huntington District

Officials of the Huntington District have determined that:

• Pursuant to 25 U.S.C. 3001(3)(B), the ten cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Absentee-Shawnee Tribe of Indians of Oklahoma, the Eastern Shawnee Tribe of Oklahoma, and the Shawnee Tribe.

Additional Requestors and Disposition

Lineal descendants or representatives of any Indian tribe or Native Hawaiian organization not identified in this notice that wish to claim these cultural items should submit a written request with information in support of the claim to Mr. Rodney Parker, District Archaeologist, U.S. Army Corps of Engineers, Huntington District, 502 Eighth Street, Huntington, WV 25701, telephone (304) 399-5729, email rodney.d.parker@usace.army.mil, by January 3, 2017. After that date, if no additional claimants have come forward, transfer of control of the unassociated funerary objects to the Absentee-Shawnee Tribe of Indians of Oklahoma, the Eastern Shawnee Tribe of Oklahoma, and the Shawnee Tribe may proceed.

The Huntington District is responsible for notifying the Absentee Shawnee Tribe of Oklahoma; Bad River Band of the Lake Superior Tribe of Chippewa Indians of the Bad River Reservation, Wisconsin; Cayuga Nation; Cherokee Nation; Chippewa Cree Indians of the Rocky Boy's Reservation, Montana (previously listed as the Chippewa-Cree Indians of the Rocky Boy's Reservation, Montana); Citizen Potawatomi Nation, Oklahoma; Delaware Nation, Oklahoma; Delaware Tribe of Indians; Eastern Band of Cherokee Indians; Eastern Shawnee Tribe of Oklahoma; Forest County Potawatomi Community, Wisconsin; Grand Traverse Band of Ottawa and Chippewa Indians, Michigan; Hannahville Indian Community, Michigan; Keweenaw Bay Indian Community, Michigan; Lac Courte Oreilles Band of Lake Superior Chippewa Indians of Wisconsin; Little River Band of Ottawa Indians, Michigan; Little Traverse Bay Bands of Odawa Indians, Michigan; Match-e-be-nash-she-wish Band of Pottawatomi Indians of Michigan; Minnesota Chippewa Tribe, Minnesota (six component reservations: Bois Forte Band (Nett Lake); Fond du Lac Band; Grant Portage Band; Leech Lake Band; Mille Lacs Band; White Earth Band); Nottawaseppi Huron Band of the Potawatomi, Michigan (previously listed as the Huron Potawatomi, Inc.); Oneida Nation (previously listed as the Oneida Tribe of Indians of Wisconsin); Oneida Nation of New York; Onondaga Nation; Ottawa Tribe of Oklahoma; Pokagon Band of Potawatomi Indians, Michigan and Indiana; Prairie Band Potawatomi Nation (previously listed as the Prairie Band of Potawatomi Nation, Kansas); Red Cliff Band of Lake Superior Chippewa Indians of Wisconsin; Red Lake Band of Chippewa Indians, Minnesota; Saginaw Chippewa Indian Tribe of Michigan; Saint Regis Mohawk Tribe (previously listed as the St. Regis Band of Mohawk Indians of New York); Sault Ste. Marie Tribe of Chippewa Indians, Michigan; Seneca Nation of Indians (previously listed as Seneca Nation of New York); Seneca-Cayuga Nation (previously listed as the Seneca-Cayuga Tribe of Oklahoma); Shawnee Tribe; Sokaogon Chippewa Community, Wisconsin; St. Croix Chippewa Indians of Wisconsin; Tonawanda Band of Seneca (previously listed as the Tonawanda Band of Seneca Indians of New York); Tuscarora Nation; United Keetoowah Band of Cherokee Indians in Oklahoma; and Wyandotte Nation that this notice has been published.

Dated: November 15, 2016.
Melanie O'Brien,
Manager, National NAGPRA Program.

[FR Doc. 2016-28960 Filed 12-1-16; 8:45 am]

BILLING CODE 4312-52-P